DEPARTMENT OF ENERGY

Federal Energy Regulatory Commission

Combined Notice of Filings #1

Take notice that the Commission received the following electric rate filings:

Docket Numbers: ER16-2200-000.

Applicants: Midcontinent Independent System Operator, Inc.

Description: Compliance filing: 2016-07-15_RTOR Settlement Compliance Filing to be effective 1/1/2016.

Filed Date: 7/15/16.

Accession Number: 20160715-5045.

Comments Due: 5 p.m. ET 8/5/16.

Docket Numbers: ER16-2287-001.

Applicants: Niagara Mohawk Power Corporation, New York Independent System Operator, Inc.

Description: Tariff Amendment: NMPC amendment filing SGIA 2293 between National Grid and Innovative/Colonie to be effective 4/29/2016.

Filed Date: 7/27/16.

Accession Number: 20160727-5113.

Comments Due: 5 p.m. ET 8/17/16.

Docket Numbers: ER16-2298-000.

Applicants: Duke Energy Kentucky, Inc.

Description: Section 205(d) Rate Filing: DEK Rate Schedule No. 14 Filing to be effective 10/1/2016.

Filed Date: 7/27/16.

Accession Number: 20160727-5111.

Comments Due: 5 p.m. ET 8/17/16.

Docket Numbers: ER16-2299-000.

Applicants: PJM Interconnection, L.L.C.

Description: Section 205(d) Rate Filing: Service Agreement No. 4510, Queue Position AB1-180 to be effective 6/27/2016.

Filed Date: 7/27/16.

Accession Number: 20160727-5115.

Comments Due: 5 p.m. ET 8/17/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 28, 2016.
Nathaniel J. Davis, Sr.,
Deputy Secretary.

[FR Doc. 2016-18455 Filed 8-3-16; 8:45 am]

BILLING CODE 6717-01-P